UNIFIED CARRIER REGISTRATION PLAN

Sunshine Act Meetings

TIME AND DATE: November 4, 2021, from 12:00 p.m. to 3:00 p.m., Eastern time.

PLACE: This meeting will be accessible via conference call and screensharing. Any interested person may call 877-853-5247 (US toll free), 888-788-0099 (US toll free), +1 929-205-6099 (US toll), or +1 669-900-6833 (US toll), Conference ID 958 0140 0508, to participate in the meeting. The website to participate via Zoom meeting and screenshare is https://kellen.zoom.us/j/95801400508.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

➢ Board actions taken only in designated areas on agenda

IV. Approval of Minutes of the September 23, 2021 UCR Board Meeting—UCR Board Chair

For Discussion and Possible Action

Draft Minutes of the September 23, 2021 UCR Board meeting will be reviewed. The Board will consider action to approve.

V. Report of the Federal Motor Carrier Safety Administration (FMCSA)—FMCSA Representative

The FMCSA will provide a report on any relevant activity.

VI. Updates Concerning UCR Legislation—UCR Board Chair

The UCR Board Chair will call for updates regarding UCR legislation since the last Board meeting.

VII. Subcommittee Reports

Audit Subcommittee—UCR Audit Subcommittee Chair

A. Proposal to Select New Independent Auditing Firm of the UCR Depository—UCR Executive Director and UCR Depository Manager.

For Discussion and Possible Board Action

The UCR Executive Director and the UCR Depository Manager will present a proposal to the Board for consideration to initiate a request for proposal (RFP) to identify and engage a new independent auditing firm to conduct an assurance engagement of the UCR Depository's financial statements for the year ending December 31, 2021. It is a widespread practice to rotate auditing firms every four years to ensure proper integrity of the audit process. The current firm has now provided these audit services for the past four years from 2017-2020. The UCR Audit Subcommittee recommends to the Board that it proceeds with an RFP process to engage a new auditing firm for the financial statements ending December 31, 2021. The Board may take action to approve the issuance of an RFP to engage a new auditing firm for an audit of the UCR Depository.

B. Proposal to Adopt Written Internal Control Policies and Procedures for the UCR Depository—UCR Executive Director and UCR Depository Manager.

For Discussion and Possible Board Action

The UCR Executive Director and the UCR Depository Manager will lead a review of the draft of written internal control policies and procedures entitled, “Accounting Guidelines” intended for implementation by the Depository. The UCR Audit Subcommittee recommends to the Board that it adopts the written internal control policies and procedures. The Board may take action to adopt written internal control policies and procedures.

C. Support States to Improve Registration Compliance—UCR Audit Subcommittee Chair and DSL Transportation, Inc. (DSL).

The UCR Audit Subcommittee Chair and DSL will lead a discussion regarding methods to help participating states improve registration compliance (percentages). Suggested methods include educating various constituents such as state registration offices, state motor carrier association offices, state highway patrols, etc. New entrant audits are an additional suggestion. The UCR Audit Subcommittee recommends a process to document “best practices”, develop guidelines for process improvements and a checklist to improve registration compliance percentages.

D. UCR Compliance Snapshot—UCR Audit Subcommittee Chair.

The UCR Audit Subcommittee Chair will review the latest numbers and statistics pertaining to states' compliance with Board mandated registration and audit percentages.

Finance Subcommittee—UCR Finance Subcommittee Chair

A. Maturing of Certificate of Deposit (CD)—UCR Depository Manager.

For Discussion and Possible Board Action

The UCR Depository Manager will provide an update on the CD that will mature on November 12, 2021. The Board may take action to reinvest the proceeds.

B. Update on Draft of Calendar Year 2022 Budget—UCR Depository Manager.

The UCR Depository Manager will provide an update on the continued development of the 2022 operating budget. The budget will be presented to the UCR Board at the December 16, 2021 Board meeting for the Board's consideration and adoption.

Education and Training Subcommittee—UCR Education and Training Subcommittee Chair

A. Update on Future Training Initiatives—UCR Education and Training Subcommittee Chair.

The UCR Education and Training Subcommittee Chair will provide an update on the planned future training initiatives for the UCR Plan.

VIII. Contractor Reports—UCR Executive Director

• UCR Executive Director's Report

The UCR Executive Director will provide a report covering recent activity for the UCR Plan.

• DSL Transportation Services, Inc.

DSL Transportation Services, Inc. will report on the latest data from the Focused Anomaly Reviews (FARs) program, discuss motor carrier inspection results, and other matters.

• Seikosoft

Seikosoft will provide an update on recent/new activity related to the National Registration System.

• UCR Administrator Report (Kellen)—UCR Operations Director and UCR Depository Manager

The UCR staff will provide a management report covering recent activity for the Depository, Operations, and Communications.

IX. Other Business—UCR Board Chair

The UCR Board Chair will call for any other items Board members would like to discuss.

X. Adjournment—UCR Board Chair

The UCR Board Chair will adjourn the meeting.

This agenda will be available no later than 5:00 p.m. Eastern time, October 28, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-23874 Filed 10-28-21; 4:15 pm]

BILLING CODE 4910-YL-P